DEPARTMENT OF TRANSPORTATION

Federal Highway Administration

[Docket No. FHWA-2010-0171]

Agency Information Collection Activities: Notice of Request for Approval of a New Information Collection

AGENCY: Federal Highway Administration (FHWA), DOT.

ACTION: Notice of request for comments.

SUMMARY: The FHWA invites public comments about our intention to request the Office of Management and Budget's (OMB) approval of a new information collection that is summarized below under SUPPLEMENTARY INFORMATION. We are required to publish this notice in the Federal Register by the Paperwork Reduction Act of 1995.

DATES: Please submit comments by February 28, 2011.

ADDRESSES: You may submit comments identified by DOT Docket ID Number 2010-0171 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Allen Greenberg at allen.greenberg@dot.gov or (202) 366-2425, Office of Operations, Federal Highway Administration, Department of Transportation, 1200 New Jersey Avenue, SE. Washington, DC 20590, Monday through Friday, except Federal holidays.

SUPPLEMENTARY INFORMATION: Title: Exploratory Advanced Research (EAR) Program initial stage research on the topic of Dynamic Ridesharing.

Background: The Exploratory Advanced Research (EAR) Program was established to conduct longer term, higher risk research that will result in potentially dramatic breakthroughs for improving the durability, efficiency, environmental performance, productivity, and safety of highway and intermodal transportation systems. To facilitate identification and assessment of higher-risk, breakthrough research topics, the Program conducts literature reviews, event scanning, and targeted convening. As part of an assessment of potential high-risk, breakthrough research on dynamic ridesharing, the EAR Program is conducting this collection of information on behavioral preferences using focus groups.

As a response to the opening of High Occupancy Vehicle (HOV) lanes in the Washington, D.C., metro area in the mid-1970s, a unique commuting phenomenon developed: “slugging.” This type of single-trip dynamic carpooling evolved from drivers and passengers coming together to fulfill each party's needs (i.e., allowing drivers to meet HOV requirements and thus use the express travel lanes and riders to enjoy a free, fast trip to work). Academic and entrepreneurial types alike are looking at ways to facilitate dynamic ridesharing through technological means. Some suggestions for enhancing dynamic ridesharing include website forums that connect drivers with riders and Smartphone applications that would allow drivers and riders to register and connect with each other. These efforts build off of the success of three meeting-place based dynamic ridesharing systems that exist in Houston, San Francisco, and Washington, DC. These three systems have no formal leadership or management; rather they have evolved to fulfill a need for carpools created by the presence of HOV lanes. These naturally occurring dynamic ridesharing systems operate by having drivers and riders meet at central, easily accessible locations such as park and ride lots where they create instantaneous carpools based on desired destinations. The lines are highly successful and have existed for a long time (30+ years in the case of DC), and they are a critical component to these robust dynamic ridesharing systems which serve thousands of commuters each weekday. Despite their success and interesting nature, they have been severely understudied by academics and transportation professionals. Focus group participants will be recruited based on a number of criteria. The primary factor is whether participants have utilized dynamic carpooling, then the frequency of their use and finally whether they work for the federal government or private sector. Participants would not be representing their place of work, and they would be asked to participate as members of the public on their own time outside of work hours.

Respondents: The Focus Group will send approximately 108 participants on a three-city tour (Washington, DC; San Francisco, CA; and Houston, TX) to study the informal, dynamic carpooling systems in each city. The government expects the contractor to recruit slugging/casual carpooling participants in each city.

Frequency: Annually.

Estimated Average Burden per Response: There will be approximately 9 focus groups (3 in each city); with each group consisting of 12 participants with a time commitment of 1.5 hours each person. The screening for potential participants will take approximately 5 minutes per person. There will be approximately 108 participants.

Estimated Total Annual Burden Hours: The annual burden for the Focus Group would be between 162 hours. The annual burden for screening participants will be 9 hours.

Annual Total = 171 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: December 22, 2010.
Judith Kane,
Acting Chief, Management Programs and Analysis Division.

[FR Doc. 2010-32723 Filed 12-28-10; 8:45 am]

BILLING CODE 4910-22-P